Proclamation 8956 of April 8, 2013

National Former Prisoner of War Recognition Day, 2013

By the President of the United States of America

A Proclamation

From the days of the Revolutionary War to the trials of our times, America has been blessed with an unbroken chain of patriots who have always stepped forward to serve. Whenever our country has come under attack, our men and women in uniform have risen to its defense. And whenever our freedoms have been threatened, they have responded with unyielding resolve—sometimes trading their liberty to secure our own.

Today, we pay tribute to former prisoners of war who made that profound sacrifice. Caught behind enemy lines and stripped of their rights, these service members endured trials few of us can imagine. Many lost their lives. But in reflecting on the tragic price they paid, we also remember how their courage lit up even the darkest night. Where others might have given up or broken down, they dug in. They summoned an iron will. In their strength, we see the measure of their character; in their sacrifice, we see the spirit of a Nation.

As we express our gratitude to heroes who gave so much for their country, we remain mindful that no one gesture is enough to truly honor their service. For that, we must recommit to serving our veterans as well as they served us—not just today, but every day. We must pursue a full accounting of those who are still missing. And for service members who have come home, we must never stop fighting to give them the stability and the support they have earned. That is the promise we renew today—for former prisoners of war, for their families, and for every American who has sworn an oath to protect and defend.

NOW, THEREFORE, I, BARACK OBAMA, President of the United States of America, by virtue of the authority vested in me by the Constitution and the laws of the United States, do hereby proclaim April 9, 2013, as National Former Prisoner of War Recognition Day. I call upon all Americans to observe this day of remembrance by honoring all American prisoners of war, our service members, and our veterans. I also call upon Federal, State, and local government officials and organizations to observe this day with appropriate ceremonies and activities.

IN WITNESS WHEREOF, I have hereunto set my hand this eighth day of April, in the year of our Lord two thousand thirteen, and of the Independence of the United States of America the two hundred and thirty-seventh.

[FR Doc. 2013-08729

Filed 4-10-13; 11:15 am]

Billing code 3295-F3